DEPARTMENT OF AGRICULTURE

Rural Utilities Service

7 CFR Parts 1710, 1717, 1721, 1726, and 1730

[Docket No. RUS-23-ELECTRIC-0024]

RIN 0572-AC64

Revision to Electric Program Operating Policies and Procedures

AGENCY: Rural Utilities, U.S. Department of Agriculture (USDA).

ACTION: Final rule; confirmation.

SUMMARY: The Rural Utilities Service (RUS or Agency), an agency in the United States Department of Agriculture (USDA) Rural Development Mission area, published a final rule with comment in the Federal Register on March 11, 2024, to provide more flexibility for the RUS Electric Program borrowers to complete emergency repairs while maintaining the ability to receive RUS financing, to delete unnecessary and outdated requirements imposed on electric borrowers and applicants, and to provide flexibility in selecting construction procurement methods that better support applicant needs in awarding construction contracts. Through this action, RUS is confirming the final rule as it was published.

DATES: The final rule published March 11, 2024, at 89 FR 17271, is confirmed as of June 10, 2024.

FOR FURTHER INFORMATION CONTACT: Mark Bartholomew, Rural Utilities Service Electric Program, Rural Development, United States Department of Agriculture, 1400 Independence Avenue SW, STOP 1560, Washington, DC 20250; 704-544-4612 mark.bartholomew@usda.gov.

SUPPLEMENTARY INFORMATION: Rural Development is a mission area within the U.S. Department of Agriculture (USDA) comprising the Rural Utilities Service, Rural Housing Service, and Rural Business-Cooperative Service. Rural Development's mission is to increase economic opportunity and improve the quality of life for all rural Americans. Rural Development meets its mission by providing loans, loan guarantees, grants, and technical assistance through numerous programs aimed at creating and improving housing, business, and infrastructure throughout rural America.

The RUS Electric Program provides funding to maintain, expand, upgrade, and modernize America's rural electric infrastructure. The loans and loan guarantees finance the construction or improvement of electric distribution, transmission, and generation facilities in rural areas. In an effort by the RUS Electric Program to administer its program in an efficient and effective manner while improving its customer service and experience, and in response to requests from the RUS Electric Program borrowers, the Electric Program undertook a systematic review of regulations and procedures in place to administer its program. In addition to this final rule, the Electric Program has completed three other streamlining efforts to date.

The final rule that published March 11, 2024 (89 FR 17271), included a 60-day comment period that ended on May 10, 2024. No comments pertaining to the final rule were received. The Agency confirms the final rule without change.

Andrew Berke,
Administrator, Rural Utilities Service.

[FR Doc. 2024-11349 Filed 5-22-24; 8:45 am]

BILLING CODE 3410-15-P